DEPARTMENT OF HEALTH AND HUMAN SERVICES

Centers for Disease Control and Prevention

Iron Disorders Institute; Patient and Physician Education and Training Activities on Iron-Out-of-Balance and Iron Overload

Announcement Type: New.

Funding Opportunity Number: RFA 05030.

Catalog of Federal Domestic Assistance Number: 93.283.

Application Deadline: January 19, 2005.

I. Funding Opportunity Description

Authority: This program is authorized under Section 301(a) and 317(k)(2), of the Public Health Services Act, 24 U.S.C. section 241(a) and 247b(k)(2) as amended.

Purpose: The purpose of the program is to provide funding for updating, printing and dissemination of developed hemochromatosis educational data and website information for Patient and Physician information and training. The prevention and control of hemochromatosis is an achievable goal and is important to the overall prevention of chronic disease. In the United States, it is estimated that as many as one in every 200 to 500 people, or approximately one million people, have evidence of hemochromatosis, and as many as one in every ten people may carry the gene for this hereditary disease.

This program addresses the “Healthy People 2010” focus area of Nutrition and Overweight.

Measurable outcomes of the program will be in alignment with one or more of the following performance goal(s) for the National Center for Chronic Disease Prevention and Health Promotion. Division of Nutrition and Physical Activity hemochromatosis priorities include:

1. Educating health care providers about the importance of early diagnosis and treatment of hemochromatosis.

2. Determining how best to use laboratory testing of serum iron measures and genetic testing to assist clinicians and patients.

3. Educate patients about hemochromatosis and family-based detection.

4. Estimate the prevalence of hemochromatosis and its associated morbidity and mortality.

Activities: Awardee activities for this program are as follows:

• Develop a plan of action to enhance activities for patient information dissemination and training activities on Iron Out of Balance and Iron Overload.

• Develop specific, time-phased, and measurable objectives.

• Carry out activities consistent with proposed plan of action designed to meet the proposed objectives.

• Evaluate how well program activities met proposed objectives.

II. Award Information

Type of Award: Grant.

Fiscal Year Funds: 2005.

Approximate Total Funding: $75,000.

Approximate Number of Awards: One.

Approximate Average Award: $75,000 (This amount is for the first 12-month budget period, and includes both direct and indirect costs).

Floor of Award Range: None.

Ceiling of Award Range: None.

Anticipated Award Date: January 31, 2005.

Budget Period Length: 12 months.

Project Period Length: 12 months. This is a one-year project period. No continuation awards are anticipated.

III. Eligibility Information

III.1. Eligible Applicants

Applications may be submitted by national; nonprofit; non-partisan or bipartisan organizations that can provide evidence of partnerships and/or collaborative activities with scientists and influential health related resources who have expertise and knowledge of iron balances and an influence on the outcome of health and can provide information widely accepted in the scientific and medical community.

Eligible applicant must demonstrate evidence of experience and capabilities for development and dissemination of educational and awareness materials for patients and physicians that complement CDC's scientific, training, and dissemination activities in hemochromatosis.

Limited competition is justified under this program announcement due to the limited number of organizations having access to the unique data that is iron-specific, include evidence based tables and a glossary of iron related medical terms or have the experience and capabilities necessary to carry out the purpose of this requirement.

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the requirements listed in this section, it will not be entered into the review process. You will be notified that your application did not meet submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 15. If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

Your narrative should address activities to be conducted over the entire project period, and must include the following items in the order listed: Plan, Methods, Objectives, Timeline, Staff, Understanding, Need, Performance Measures, Budget Justification. The budget justification will not be counted in the stated page limit.

Additional information may be included in the application appendices. The appendices will not be counted toward the narrative page limit. This additional information includes:

• Curriculum Vitaes, Resumes, Organizational Charts, Letters of Support.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: January 19, 2005.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Construction and or renovations.

• Web-site development of shopping cart capabilities, and online contributions.

• Patient to patient chat rooms and links to information regarding activity in the private sector that supports treatment or management of disorders of iron.

If you are requesting indirect costs in your budget, you must include a copy of your indirect cost rate agreement. If your indirect cost rate is a provisional rate, the agreement should be less than 12 months of age.

Awards will not allow reimbursement of pre-award costs.

Guidance for completing your budget can be found on the CDC Web site, at the following Internet address: http://www.cdc.gov/od/pgo/funding/budgetguide.htm.

IV.6. Other Submission Requirements

Application Submission Address: You may submit your application electronically at http://www.grants.gov, or submit the original and two hard copies of your application by mail or express delivery service to: Technical Information Management-RFA 05030, CDC Procurement and Grants Office, 2920 Brandywine Road, Atlanta, GA 30341.

V. Application Review Information

V.1. Criteria

You are required to provide measures of effectiveness that will demonstrate the accomplishment of the various identified objectives of the grant. Measures of effectiveness must relate to the performance goals stated in the “Purpose” section of this announcement. Measures must be objective and quantitative, and must measure the intended outcome. These measures of effectiveness must be submitted with the application and will be an element of evaluation.

Your application will be evaluated against the following criteria:

1. Work Plan (60 Points)

a. Does the plan for achieving the proposed activities appear realistic and feasible? Will it accomplish program requirements and goals of the grant?

b. Does the proposed plan for evaluating progress toward meeting objectives appear reasonable and feasible?

c. Are the objectives specific, time-phased, measurable, realistic, and related to identified needs, program requirements, and purpose of the program?

2. Staffing and Organizational Support (20 Points)

Does the proposed staff have the relevant background, qualifications, and experience?

3. Background and Need (20 Points)

Does the applicant identify specific needs, resources and interest available for the activities and present data justifying the need for the program in terms of the magnitude of the burden?

4. Budget (Not Scored)

Does the budget appear reasonable and consistent with the proposed activities and intent of the program?

5. Human Subjects (Not Scored)

Does the application adequately address the requirements of Title 45 CFR Part 46 for the protection of Human Subjects?

V.2. Review and Selection Process

The Application will be reviewed for completeness by the Procurement and Grants Office (PGO) staff and for responsiveness by National Center for Chronic Disease Prevention and Health Promotion/Division of Nutrition and Physical Activity. An incomplete or non-responsive application will not advance through the review process. The Applicant will be notified that their application did not meet submission requirements.

An objective review panel will evaluate completeness and responsiveness of the application according to the criteria listed in the “V.1. Criteria” section above.

V.3. Anticipated Announcement and Award Dates

January 31, 2005, project start date.

VI. Award Administration Information

VI.1. Award Notices

The Successful applicant will receive a Notice of Grant Award (NGA) from the CDC Procurement and Grants Office. The NGA shall be the only binding, authorizing document between the recipient and CDC. The NGA will be signed by an authorized Grants Management Officer, and mailed to the recipient fiscal officer identified in the application.

The Unsuccessful applicant will receive notification of the results of the application review by mail.

VI.2. Administrative and National Policy Requirements

45 CFR Parts 74 and 92

For more information on the Code of Federal Regulations, see the National Archives and Records Administration at the following Internet address: http://www.access.gpo.gov/nara/cfr/cfr-table-search.html.

The following additional requirements apply to this project:

• AR-7 Executive Order 12372.

• AR-9 Paperwork Reduction Act Requirements.

• AR-10 Smoke-Free Workplace Requirements.

• AR-11 Healthy People 2010.

• AR-12 Lobbying Restrictions.

Additional information on these requirements can be found on the CDC web site at the following Internet address: http://www.cdc.gov/od/pgo/funding/ARs.htm.

VI.3. Reporting Requirements

You must provide CDC with an original, plus two hard copies of the following reports:

1. Interim progress report, no less than 90 days before the end of the budget period. Report must contain the following elements:

a. Current Budget Period Activities Objectives.

b. Current Budget Period Financial Progress.

c. Additional Requested Information.

d. Measures of Effectiveness.

2. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Dan Sadler, Project Officer, CDC National Center for Chronic Disease Prevention, 4770 Buford Highway, NE MS K-24, Atlanta, GA 30341, Telephone: 770-488-6002, E-mail:DSadler@CDC.gov.

For financial, grants management, or budget assistance, contact: Carlos Smiley, Grants Management Specialist, CDC Procurement and Grants Office, 2920 Brandywine Road, Atlanta, GA 30341, Telephone: 770-488-2754, E-mail: CSmiley@cdc.gov.

VIII. Other Information

None.

Dated: December 13, 2004.
William P. Nichols,
Director, Procurement and Grants Office, Centers for Disease Control and Prevention.

[FR Doc. 04-27707 Filed 12-17-04; 8:45 am]

BILLING CODE 4163-18-P